DEPARTMENT OF HOUSING AND URBAN DEVELOPMENT

[Docket No.: FR-7092-N-02]

Privacy Act of 1974; System of Records

AGENCY: Office of Public and Indian Housing, HUD.

ACTION: Notice of a modified system of records.

SUMMARY: Under the Privacy Act of 1974, as amended, the Department of Housing and Urban Development (HUD), Office of Public and Indian Housing (PIH) is modifying system of records notice, the Inventory Management System (IMS), also known as the Public and Indian Housing Information Center (IMS/PIC), to amend and replace the current system of records with one that encompasses both the IMS/PIC and the Housing Information Portal (HIP) system, add three new routine uses and a new collection authority. The updates are explained in the “Supplementary Section” of this notice. The system name is changing from IMS/PIC to IMS/PIC-HIP because HUD is adding functionality from HIP to the IMS/PIC system. The existing scope, objectives, business processes, and uses being made of the data by HUD remains unchanged.

DATES: Comments will be accepted on or before February 8, 2024. The SORN becomes effective immediately, while the routine uses become effective after the comment period immediately upon publication except for the routine uses, which will become effective on the date following the end of the comment period unless comments are received which result in a contrary determination.

ADDRESSES: You may submit comments, identified by docket number or by one of these methods:

Federal e-Rulemaking Portal: http://www.regulations.gov. Follow the instructions provided on that site to submit comments electronically.

Fax: 202-619-8365.

Email: privacy@hud.gov.

Mail: Attention: Privacy Office; Mr. Ladonne White, Chief Privacy Officer, Office of the Executive Secretariat; 451 Seventh Street SW, Room 10139, Washington, DC 20410-0001.

Instructions: All submissions received must include the agency name and docket number for this rulemaking. All comments received will be posted without change to http://www.regulations.gov. including any personal information provided.

Docket: For access to the docket to read background documents or comments received go to http://www.regulations.gov.

FOR FURTHER INFORMATION CONTACT: LaDonne White, 451 Seventh Street SW, Room 10139, Washington, DC 20410-0001, telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The Housing Information Portal (HIP) system will replace, enhance, and augment the functionality currently performed by Inventory Management System and Public and Indian Housing Information Center (IMS/PIC), while reducing the administrative burden on Public Housing Authorities (PHAs) for providing information to HUD through a new form/data submission mechanism. HIP is a modernized, flexible, scalable, internet-based integrated system, which enables PHA, Tribe/Tribally Designated Housing Entities (TDHE) and HUD users to access a common database of affordable housing information via the internet. IMS/PIC and HIP will operate in parallel until such time as HIP is able to fully replace IMS/PIC. The enhanced technology used by the HIP system will also enable critical new policy initiatives, including the expansion of the Moving to Work (MTW) Expansion program mandated by the 2016 Consolidated Appropriations Act and several programmatic changes resulting from the Housing Opportunities Through Modernization Act of 2016 (HOTMA). HUD is publishing this notice to amend and replace the current system of records titled as IMS/PIC with one that encompasses both the IMS/PIC and HIP systems, add three new routine uses to the Routine Use Section and add to the collection authority section published in the Federal Register on March 25, 2019, at 84 FR 11117. The three new additions to the Routine Uses section allow for sharing of data with Universal Service Administrative Company (USAC)/Federal Communications Commission (FCC) to establish eligibility for benefits administered by USAC for families which also participate in a HUD rental assistance program, and to any Federal, State, or local agency to verify the accuracy and completeness of the eligibility data for HUD rental assistance program, and HUD to enter into cooperative agreements and other types of agreements for the purposes of statistical analysis and research in support of program operations. The addition to the collection authority covers the data collected by Tribes/TDHE and their-hired management agents and entered HIP via the Tribal HUD-Veterans Affairs Supportive Housing (VASH) reporting tool. The changes also include an update to the name of the system manager.

SYSTEM NAME AND NUMBER:

Inventory Management System, Public and Indian Housing Information Center (IMS/PIC) and Housing Information Portal (HIP), HUD/PIH-01.

SECURITY CLASSIFICATION:

Unclassified.

SYSTEM LOCATION:

Records are maintained at these locations: U.S. Department of Housing and Urban Development Headquarters, 451 Seventh Street SW, Washington, DC 20410-0001; IMS/PIC servers are in Charleston, WV; and are accessed through the internet. The servers are maintained by HUD Information Technology Services (HITS) contractor, and HUD's information technology partner: Perspecta. 15052 Conference Center Drive, Chantilly, VA 20151.

SYSTEM MANAGER(S):

Ashley Sheriff, Deputy Assistant Secretary, Real Estate Assessment Center (REAC), 550 12th Street SW, Suite 100, Washington, DC 20410. (202) 475-7949.

AUTHORITY FOR MAINTENANCE OF THE SYSTEM:

United States Housing Act of 1937 (42 U.S.C. 1437, et seq.); Title VI of the Civil Rights Act of 1962 (42 U.S.C. 2000d); The Fair Housing Act (42 U.S.C. 3601-3619); The Housing Community Development Act of 1981, Public Law 97-35, 85 Stat. 348,408; The Housing and Community Development Act of 1987 (42 U.S.C. 3543); and the Native American Housing Assistance and Self-Determination Act of 1996, Public Law 104-330, 110 Stat. 4016.

PURPOSE(S) OF THE SYSTEM:

IMS/PIC and HIP serve as a national repository of information related to PHAs, Tribally Designated Housing Entities (TDHE), HUD-assisted families, HUD assisted properties, and other HUD programs, for the purpose of monitoring and evaluating the effectiveness of PIH rental housing assistance programs. IMS/PIC and HIP allow PHAs, TDHEs, and their-hired management agents to electronically submit information to HUD that is related to the administration of HUD's PIH programs. They collect data for PIH operations, including data submitted via the internet from HUD's field offices, and accurately tracks activities and processes. IMS/PIC and HIP also help to increase sharing of information throughout PIH and HUD, which improves staff awareness of activities related to the administration of HUD subsidized housing programs. IMS/PIC and HIP are flexible, scalable, internet-based integrated systems, which enables PHA and TDHE users, and HUD personnel to access a common database via their web browser. IMS/PIC and HIP aids HUD and entities that administer HUD's assisted housing programs in: (a) Increasing the effective distribution of rental assistance to individuals that meet the requirements of Federal rental assistance programs; (b) detecting abuses in assisted housing programs; (c) taking administrative or legal actions to resolve past and current abuses of assisted housing programs; (d) monitoring compliance with HUD program requirements; (e) deterring abuses by verifying the employment and income of tenants at the time of annual and interim reexaminations of family income and composition via the PIH Enterprise Income Verification (EIV) system; (f) evaluating program effectiveness; (g) improving PHA and TDHE IMS/PIC and HIP reporting rates; (h) forecasting budgets; (i) controlling funds; (j) updating tenant information; and (k) updating building and unit data.

CATEGORIES OF INDIVIDUALS COVERED BY THE SYSTEM:

Families residing in a HUD-assisted property and/or receiving rental housing assistance via programs administered by the Department of Housing and Urban Development; PHAs and their hired management agents; TDHEs and their hired management agents; and individuals who have received or applied for housing-related disaster assistance from the Federal Emergency Management Agency (FEMA).

CATEGORIES OF RECORDS IN THE SYSTEM:

Records consist of the following information as reported to HUD by PHAs, TDHEs, and their hired management agents, and other governmental agencies:

1. Agency information: Agency name, HUD-assigned code, HUD program type family participates in; project number, building number, building number, building entrance number, and unit number (applicable to only the Public Housing program).

2. Agency contact information.

a. Agency point of contact information for individuals that work for, and access IMS/PIC and HIP and oversee the agency's administration (i.e., Mayors, board members, managers, directors, etc.: Individual's name, agency's physical address, agency's mailing address, agency's telephone numbers, and email addresses for point of contacts).

b. PHA and TDHE IMS/PIC and HIP system user's information: Name, telephone number, fax number, email address, mailing address, agency website address.

3. Action information: Type of action (new admission, annual reexamination, interim reexamination, portability move-in, portability move-out, end of participation, other change of unit, Family Self-sufficiency (FSS), annual reexamination searching (Section 8 program only), issuance of voucher (Section 8 program only), expiration of voucher (Section 8 program only), flat rent annual updated (Public Housing program only), annual HQS inspection (Section 8 program only), historical adjustment, and void); effective date of action, indication of correction of previous submitted information, type of correction, date family was admitted into a PIH rental assistance program, projected effective date of next reexamination of family income and/or composition, projected date of next flat rent annual updated (applicable only to the Public Housing program), indication of whether or not the family is or has participated in the FSS program within the last year, identification of special Section 8 program (applicable only to the Section 8 program), identification of other special HUD rental program(s) the family is participating in, and “PHA Use Only” fields which are used by PHAs for general administrative purposes or other uses as prescribed by HUD.

4. Family composition (which includes the following personally identifiable information) as reported by the family and verified by PHAs, TDHEs, and their-hired management agents: Last name, first name, middle initial, place of birth, date of birth, age (age on effective date of action), sex, gender, relationship to head of household, citizenship status, disability status, race, ethnicity, social security number, tax identification number, alien registration number, compliance with community service or self-sufficiency requirement for public housing tenants, total number of household members, family subsidy status under the noncitizens rule, eligibility effective date, and former head of household's social security number.

5. Geographical and unit information:

a. Background at admission information as reported by the family: Date family entered the waiting list, zip code before admission, whether or not the family was homeless at time of admission, whether or not the family qualifies for admission over the very low-income limit, whether or not the family is continuously assisted under the 1937 Housing Act, whether or not there is a HUD-approved income targeting disregard.

b. Subsidized Unit information: Unit number and street address, city, State and zip code in which the subsidized unit is located, city, State and zip code in which the subsidized unit is located, whether or not the family's mailing address is the same address of the unit to be occupied by the family, family's mailing address (unit number and street address, city, State, and zip code) if different from the address of the subsidized unit, number of bedrooms, whether or not the unit is an accessible unit (applicable to the Public Housing program only), whether or not the family has requested accessibility features (applicable to the Public Housing program only), whether or not the family has received the requested accessibility features (applicable to the Public Housing program only), date the unit last passed Housing Quality Standards (HQS) inspection (applicable to the Section 8 program only, except Homeownership and Project-Based Vouchers programs), date of last annual HQS inspection (applicable to the Section 8 program only, except Homeownership and Project-Based Vouchers programs), year the unit was built (applicable to the Section 8 program only), and the structure type of the unit (applicable to the Section 8 program only).

6. Family assets information, as reported by the family and verified by PHAs, TDHEs, and their hired management agents, which includes the type of asset, cash value of the asset, anticipated annual income derived from the asset, passbook rate, imputed asset income, and final asset income.

7. Family income information, as reported by the family and verified by PHAs, TDHEs, and their hired management agents, which includes the income source, Income calculations, annual income derived from the income source, income exclusion amount in accordance with HUD program requirements and annual income amount after deducting allowable income exclusion for each household member of the family, total household annual income, amounts of permissible deductions and other deductions to annual income in accordance with HUD program requirements, and amount of family adjusted annual income.

8. Total tenant payment (TTP), minimum rent amount, most recent TTP amount, and tenant rent calculation information in accordance with HUD requirements for the specific PIH rental assistance program the family is currently participating in.

9. Family Self-sufficiency (FSS) program information: Type of self-sufficiency program the family is participating in, FSS report category, FSS effective date, PHA code of PHA administering FSS contract, and general information pertaining to the employment status of the head of household, date current employment began, type of employment benefits head of household receives from employer, number of years of school completed by the head of household, type of other Federal assistance received by the family, number of children receiving childcare services, and optional information related to the type of family services the family needs, whether or not the need was met during participation in the FSS program, and the name of the service provider; FSS contract, account and exit information; and FSS contract, account and exit information.

10. Disaster assistance information: Records from FEMA, shared with HUD pursuant to an approved computer matching agreement, to enable effective delivery of aid in the wake of a disaster. Includes information about applicants for FEMA assistance, including name, social security number, address, type and amount of disaster damage, type and amount of assistance provided by FEMA.

RECORD SOURCE CATEGORIES:

Individuals, HUD staff; HUD contractors; PHAs, TDHEs, and their hired management agents; the Social Security Administration; the Department of Veteran Affairs; the Federal Emergency Management Agency; and other Federal, State and local agencies. The IMS/PIC and HIP data reported by PHAs, TDHEs, and their hired management agents is electronically transmitted to IMS/PIC and HIP using agency owned software or via HUD's Family Reporting Software (FRS). The Tribal HUD-VASH module in HIP is used by the TDHEs and their hired management agents to record data as required by the Tribal HUD-VASH program.

ROUTINE USES OF RECORDS MAINTAINED IN THE SYSTEM, INCLUDING CATEGORIES OF USERS AND PURPOSES OF SUCH USES:

1. To the National Archives and Records Administration, Office of Government Information Services (OGIS), to the extent necessary to fulfill its responsibilities in 5 U.S.C. 552(h), to review administrative agency policies, procedures and compliance with the Freedom of Information Act (FOIA), and to facilitate OGIS' offering of mediation services to resolve disputes between persons making FOIA requests and administrative agencies.

2. To the HUD Geocoding Service Center (GSC) to obtain geographic information for records in the system.

3. To individuals under contract to HUD or under contract to another agency with funds provided by HUD: For the preparation of studies and statistical reports directly related to the management of HUD's rental assistance programs, to support quality control for tenant eligibility efforts requiring a random sampling of tenant files to determine the extent of administrative errors in making rent calculations, eligibility determinations, etc., and for processing reexaminations (individuals provided information under this routine use are subject to Privacy Act requirements and limitation on disclosures as are applicable to HUD officials and employees).

4. To PHAs, TDHEs, and their hired management agents, and auditors of HUD rental housing assistance programs: To verify the accuracy and completeness of tenant data used in determining eligibility and continued eligibility and the amount of housing assistance received.

5. To PHAs, TDHEs, and their hired management agents of HUD rental housing assistance programs: To identify and resolve discrepancies in tenant data.

6. To researchers affiliated with academic institutions, with not-for profit organizations, or with Federal, State or local governments, or to policy researchers: Without personally identifiable information: For the performance of research and statistical activities on housing and community development issues (individuals provided information under this routine use are subject to Privacy Act requirements and limitation on disclosures as are applicable to HUD officials and employees).

7. To HUD contractors, independent public auditors and accountants, PHAs, and TDHEs: For the purpose of conducting oversight and monitoring of program operations to determine compliance with applicable laws and regulations, and financial reporting requirements (individuals provided information under this routine use are subject to Privacy Act requirements and limitation on disclosures as are applicable to HUD officials and employees).

8. To the U.S. Department of Veterans Affairs (VA) for statistical analysis to advance the goals of the nation's Federal strategic plan to prevent and end homelessness through the collection, analysis, and reporting of quality and timely data on veterans homelessness to assist VA with the establishment and/or verification of the following: Reducing homelessness among our nation's veterans; identify and understand the needs of homeless veterans and to develop programs and services to address those needs; effective administration of the HUD Veterans Affairs Supportive Housing (VASH) program by HUD and VA business partners; HUD-VASH program monitoring and evaluation; and the production of aggregate statistical data without any personal identifiers, which will not be used to make decisions concerning the rights, benefits, or privileges of specific individuals, or providers of services with respect to assistance provided under the HUD-VASH program.

9. To the U.S. Department of Veterans Affairs (VA), under an approved computer matching agreement, or data sharing agreement pursuant to a Presidential Executive Order (E.O.) mandate and in accordance with the Federal Privacy Act and Computer Matching and Privacy Protection Act: To identify and recover overpayments (improper payments) of rental assistance, determine compliance with program requirements by program administrators and participants of HUD rental housing assistance programs, deter future abuses in rental housing assistance programs, reduce administrative costs associated with manual program evaluation and monitoring efforts, and ensure that only eligible participants receive rental assistance in the correct amount.

10. To the FEMA, under an approved computer matching agreement, or data sharing agreement pursuant to a Presidential E.O. mandate in accordance with the Federal Privacy Act and Computer Matching and Privacy Protection Act: To identify existing families which participate in a HUD rental assistance program and are currently receiving housing assistance.

11. To State, local and Tribal governments receiving HUD disaster recovery grants, and to PHAs: To ensure effective delivery of disaster recovery aid, to prevent duplication of benefits between HUD and other Federal agencies, and to address unmet needs of disaster victims.

12. To appropriate agencies, entities, and persons when (1) [the agency] suspects or has confirmed that there has been a breach of the system of records,· (2) [the agency] has determined that as a result of the suspected or confirmed breach there is a risk of harm to individuals, [the agency] (including its information systems, programs, and operations), the Federal Government, or national security; and (3) the disclosure made to such agencies, entities, and persons is reasonably necessary to assist in connection with [the agency's] efforts to respond to the suspected or confirmed breach or to prevent, minimize, or remedy such harm.

13. To another Federal agency or Federal entity, when [the agency] determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

14. To the Universal Service Administrative Company (USAC), which is designated by the Federal Communications Commission (FCC) as the Federal administrator of the Universal Service Fund (USF or Fund) Lifeline Program (Lifeline), the Emergency Broadband Benefit (EBB) program and other Federal Telecommunications Benefit (FTB) programs that utilizes Lifeline eligibility criteria as specified by the Lifeline program, 47 CFR 54.409. The purpose of this routine use is to establish eligibility for the Lifeline, EBB and other FTB programs for families which also participate in a HUD rental assistance program.

15. To any Federal, State, or local agency (e.g., State agencies administering the State's unemployment compensation laws, Temporary Assistance to Needy Families, or Supplemental Nutrition Assistance Program agencies, U.S. Department of Health and Human Services, and U.S. Social Security Administration): To verify the accuracy and completeness of the data provided, to verify eligibility or continued eligibility in HUD's rental assistance programs, to identify and recover improper payments under the Payment Integrity Information Act of 2019, Public Law 116-117., and to aid in the identification of tenant errors, fraud, and abuse in assisted housing programs.

16. To contractors, grantees, experts, consultants, Federal agencies, and non-Federal entities, including, but not limited to, State and local governments and other research institutions or their parties, and entities and their agents with whom HUD has a contract, service agreement, grant, cooperative agreement, or other agreement for the purposes of statistical analysis and research in support of program operations, management, performance monitoring, evaluation, risk management, and policy development, or to otherwise support the Department's mission. Research and analysis activities may include the matching of the records in this system with information from any other source.

POLICIES AND PRACTICES FOR STORAGE OF RECORDS:

Electronic and paper.

POLICIES AND PRACTICES FOR RETRIEVAL OF RECORDS:

Records are retrieved by name and Social Security Number.

POLICIES AND PRACTICES FOR RETENTION AND DISPOSAL OF RECORDS:

Electronic records are maintained and destroyed in accordance with requirements of the HUD Records Disposition Schedule, 2225-6. In accordance with 24 CFR 908.101 and HUD record retention requirements at 24 CFR 85.42, PHAs are required to retain at least `three years' worth of IMS/PIC and HIP data either electronically or in paper form.

ADMINISTRATIVE, TECHNICAL, AND PHYSICAL SAFEGUARDS:

Records are maintained at the U.S. Department of Housing and Urban Development in Washington, DC with limited access to those persons whose official duties require the use of such records. Computer files and printed listings are maintained in locked cabinets. User's access, updates access, read-only access, and approval access are granted based on the user's role and security access level.

RECORD ACCESS PROCEDURES:

Individuals requesting records of themselves should address written inquiries to the Department of Housing Urban and Development 451 7th Street SW, Washington, DC 20410-0001. For verification, individuals should provide their full name, current address, and telephone number. In addition, the requester must provide either a notarized statement or an unsworn declaration made under 24 CFR 16.4.

CONTESTING RECORD PROCEDURES:

The HUD rule for contesting the content of any record pertaining to the individual by the individual concerned is published in 24 CFR 16.8 or may be obtained from the system manager.

NOTIFICATION PROCEDURES:

Individuals requesting notification of records of themselves should address written inquiries to the Department of Housing Urban Development, 451 7th Street SW, Washington, DC 20410-0001. For verification purposes, individuals should provide their full name, office or organization where assigned, if applicable, and current address and telephone number. In addition, the requester must provide either a notarized statement or an unsworn declaration made under 24 CFR 16.4.

EXEMPTIONS PROMULGATED FOR THE SYSTEM:

None.

HISTORY:

Docket No. FR-7077-N-07 published on March 25, 2019, at 88 FR 17004.

LaDonne White,
Chief Privacy Officer, Office of Administration.

[FR Doc. 2024-00186 Filed 1-8-24; 8:45 am]

BILLING CODE 4210-67-P